DEPARTMENT OF HEALTH AND HUMAN SERVICES

Centers for Medicare & Medicaid Services

42 CFR Parts 409, 424, and 484

[CMS-1625-CN]

RIN 0938-AS46

Medicare and Medicaid Programs; CY 2016 Home Health Prospective Payment System Rate Update; Home Health Value-Based Purchasing Model; and Home Health Quality Reporting Requirements; Correction

AGENCY: Centers for Medicare & Medicaid Services (CMS), HHS.

ACTION: Proposed rule; correction.

SUMMARY: This document corrects technical errors in the proposed rule that appeared in the July 10, 2015 Federal Register entitled “Medicare and Medicaid Programs; CY 2016 Home Health Prospective Payment System Rate Update; Home Health Value-Based Purchasing Model; and Home Health Quality Reporting Requirements.”

DATES: Comments on the proposed rule published on July 10, 2015 (80 FR 39839), continue to be accepted until September 4, 2015.

FOR FURTHER INFORMATION CONTACT: Hillary Loeffler, (410) 786-0456.

SUPPLEMENTARY INFORMATION:

I. Background

In FR Doc. 2015-16790, published in the Federal Register of July 10, 2015 (80 FR 39839), there were technical errors that are identified and corrected in the Correction of Errors section of this correcting document.

II. Summary of Errors

On page 39854, in our discussion of case-mix weights, there was a sorting error in Table 9: CY 2016 Case-Mix Payment Weights.

On page 39906, in our discussion of the overall impact of the home health prospective payment system in CY 2016, we inadvertently provided the incorrect percent decrease in expenditures when comparing CY 2015 payments to estimated CY 2016 payments.

III. Correction of Errors

In FR Doc. 2015-16790 of July 10, 2015 (80 FR 39839), make the following corrections:

On page 39854, Table 9—CY 2016 Case-Mix Payment Weights is corrected to read as follows:

Table 9—CY 2016 Case-Mix Payment Weights
Payment group | Step (episode and/or therapy visit ranges) | Clinical and functional levels (1 = low; 2 = medium; 3= high) | CY 2016 Case-mix weights
10111 | 1st and 2nd Episodes, 0 to 5 Therapy Visits | C1F1S1 | 0.5969
10112 | 1st and 2nd Episodes, 6 Therapy Visits | C1F1S2 | 0.7216
10113 | 1st and 2nd Episodes, 7 to 9 Therapy Visits | C1F1S3 | 0.8462
10114 | 1st and 2nd Episodes, 10 Therapy Visits | C1F1S4 | 0.9708
10115 | 1st and 2nd Episodes, 11 to 13 Therapy Visits | C1F1S5 | 1.0954
10121 | 1st and 2nd Episodes, 0 to 5 Therapy Visits | C1F2S1 | 0.7123
10122 | 1st and 2nd Episodes, 6 Therapy Visits | C1F2S2 | 0.8240
10123 | 1st and 2nd Episodes, 7 to 9 Therapy Visits | C1F2S3 | 0.9357
10124 | 1st and 2nd Episodes, 10 Therapy Visits | C1F2S4 | 1.0474
10125 | 1st and 2nd Episodes, 11 to 13 Therapy Visits | C1F2S5 | 1.1591
10131 | 1st and 2nd Episodes, 0 to 5 Therapy Visits | C1F3S1 | 0.7709
10132 | 1st and 2nd Episodes, 6 Therapy Visits | C1F3S2 | 0.8868
10133 | 1st and 2nd Episodes, 7 to 9 Therapy Visits | C1F3S3 | 1.0027
10134 | 1st and 2nd Episodes, 10 Therapy Visits | C1F3S4 | 1.1186
10135 | 1st and 2nd Episodes, 11 to 13 Therapy Visits | C1F3S5 | 1.2345
10211 | 1st and 2nd Episodes, 0 to 5 Therapy Visits | C2F1S1 | 0.6339
10212 | 1st and 2nd Episodes, 6 Therapy Visits | C2F1S2 | 0.7637
10213 | 1st and 2nd Episodes, 7 to 9 Therapy Visits | C2F1S3 | 0.8935
10214 | 1st and 2nd Episodes, 10 Therapy Visits | C2F1S4 | 1.0234
10215 | 1st and 2nd Episodes, 11 to 13 Therapy Visits | C2F1S5 | 1.1532
10221 | 1st and 2nd Episodes, 0 to 5 Therapy Visits | C2F2S1 | 0.7492
10222 | 1st and 2nd Episodes, 6 Therapy Visits | C2F2S2 | 0.8661
10223 | 1st and 2nd Episodes, 7 to 9 Therapy Visits | C2F2S3 | 0.9830
10224 | 1st and 2nd Episodes, 10 Therapy Visits | C2F2S4 | 1.0999
10225 | 1st and 2nd Episodes, 11 to 13 Therapy Visits | C2F2S5 | 1.2169
10231 | 1st and 2nd Episodes, 0 to 5 Therapy Visits | C2F3S1 | 0.8079
10232 | 1st and 2nd Episodes, 6 Therapy Visits | C2F3S2 | 0.9290
10233 | 1st and 2nd Episodes, 7 to 9 Therapy Visits | C2F3S3 | 1.0501
10234 | 1st and 2nd Episodes, 10 Therapy Visits | C2F3S4 | 1.1712
10235 | 1st and 2nd Episodes, 11 to 13 Therapy Visits | C2F3S5 | 1.2923
10311 | 1st and 2nd Episodes, 0 to 5 Therapy Visits | C3F1S1 | 0.6876
10312 | 1st and 2nd Episodes, 6 Therapy Visits | C3F1S2 | 0.8424
10313 | 1st and 2nd Episodes, 7 to 9 Therapy Visits | C3F1S3 | 0.9973
10314 | 1st and 2nd Episodes, 10 Therapy Visits | C3F1S4 | 1.1522
10315 | 1st and 2nd Episodes, 11 to 13 Therapy Visits | C3F1S5 | 1.3071
10321 | 1st and 2nd Episodes, 0 to 5 Therapy Visits | C3F2S1 | 0.8029
10322 | 1st and 2nd Episodes, 6 Therapy Visits | C3F2S2 | 0.9449
10323 | 1st and 2nd Episodes, 7 to 9 Therapy Visits | C3F2S3 | 1.0868
10324 | 1st and 2nd Episodes, 10 Therapy Visits | C3F2S4 | 1.2288
10325 | 1st and 2nd Episodes, 11 to 13 Therapy Visits | C3F2S5 | 1.3707
10331 | 1st and 2nd Episodes, 0 to 5 Therapy Visits | C3F3S1 | 0.8616
10332 | 1st and 2nd Episodes, 6 Therapy Visits | C3F3S2 | 1.0077
10333 | 1st and 2nd Episodes, 7 to 9 Therapy Visits | C3F3S3 | 1.1539
10334 | 1st and 2nd Episodes, 10 Therapy Visits | C3F3S4 | 1.3000
10335 | 1st and 2nd Episodes, 11 to 13 Therapy Visits | C3F3S5 | 1.4462
21111 | 1st and 2nd Episodes, 14 to 15 Therapy Visits | C1F1S1 | 1.2201
21112 | 1st and 2nd Episodes, 16 to 17 Therapy Visits | C1F1S2 | 1.4237
21113 | 1st and 2nd Episodes, 18 to 19 Therapy Visits | C1F1S3 | 1.6273
21121 | 1st and 2nd Episodes, 14 to 15 Therapy Visits | C1F2S1 | 1.2708
21122 | 1st and 2nd Episodes, 16 to 17 Therapy Visits | C1F2S2 | 1.4643
21123 | 1st and 2nd Episodes, 18 to 19 Therapy Visits | C1F2S3 | 1.6578
21131 | 1st and 2nd Episodes, 14 to 15 Therapy Visits | C1F3S1 | 1.3504
21132 | 1st and 2nd Episodes, 16 to 17 Therapy Visits | C1F3S2 | 1.5410
21133 | 1st and 2nd Episodes, 18 to 19 Therapy Visits | C1F3S3 | 1.7316
21211 | 1st and 2nd Episodes, 14 to 15 Therapy Visits | C2F1S1 | 1.2830
21212 | 1st and 2nd Episodes, 16 to 17 Therapy Visits | C2F1S2 | 1.4994
21213 | 1st and 2nd Episodes, 18 to 19 Therapy Visits | C2F1S3 | 1.7157
21221 | 1st and 2nd Episodes, 14 to 15 Therapy Visits | C2F2S1 | 1.3338
21222 | 1st and 2nd Episodes, 16 to 17 Therapy Visits | C2F2S2 | 1.5400
21223 | 1st and 2nd Episodes, 18 to 19 Therapy Visits | C2F2S3 | 1.7461
21231 | 1st and 2nd Episodes, 14 to 15 Therapy Visits | C2F3S1 | 1.4134
21232 | 1st and 2nd Episodes, 16 to 17 Therapy Visits | C2F3S2 | 1.6167
21233 | 1st and 2nd Episodes, 18 to 19 Therapy Visits | C2F3S3 | 1.8200
21311 | 1st and 2nd Episodes, 14 to 15 Therapy Visits | C3F1S1 | 1.4619
21312 | 1st and 2nd Episodes, 16 to 17 Therapy Visits | C3F1S2 | 1.6962
21313 | 1st and 2nd Episodes, 18 to 19 Therapy Visits | C3F1S3 | 1.9304
21321 | 1st and 2nd Episodes, 14 to 15 Therapy Visits | C3F2S1 | 1.5127
21322 | 1st and 2nd Episodes, 16 to 17 Therapy Visits | C3F2S2 | 1.7368
21323 | 1st and 2nd Episodes, 18 to 19 Therapy Visits | C3F2S3 | 1.9609
21331 | 1st and 2nd Episodes, 14 to 15 Therapy Visits | C3F3S1 | 1.5923
21332 | 1st and 2nd Episodes, 16 to 17 Therapy Visits | C3F3S2 | 1.8135
21333 | 1st and 2nd Episodes, 18 to 19 Therapy Visits | C3F3S3 | 2.0347
22111 | 3rd+ Episodes, 14 to 15 Therapy Visits | C1F1S1 | 1.2795
22112 | 3rd+ Episodes, 16 to 17 Therapy Visits | C1F1S2 | 1.4633
22113 | 3rd+ Episodes, 18 to 19 Therapy Visits | C1F1S3 | 1.6471
22121 | 3rd+ Episodes, 14 to 15 Therapy Visits | C1F2S1 | 1.2952
22122 | 3rd+ Episodes, 16 to 17 Therapy Visits | C1F2S2 | 1.4806
22123 | 3rd+ Episodes, 18 to 19 Therapy Visits | C1F2S3 | 1.6659
22131 | 3rd+ Episodes, 14 to 15 Therapy Visits | C1F3S1 | 1.3761
22132 | 3rd+ Episodes, 16 to 17 Therapy Visits | C1F3S2 | 1.5581
22133 | 3rd+ Episodes, 18 to 19 Therapy Visits | C1F3S3 | 1.7401
22211 | 3rd+ Episodes, 14 to 15 Therapy Visits | C2F1S1 | 1.3660
22212 | 3rd+ Episodes, 16 to 17 Therapy Visits | C2F1S2 | 1.5546
22213 | 3rd+ Episodes, 18 to 19 Therapy Visits | C2F1S3 | 1.7433
22221 | 3rd+ Episodes, 14 to 15 Therapy Visits | C2F2S1 | 1.3817
22222 | 3rd+ Episodes, 16 to 17 Therapy Visits | C2F2S2 | 1.5719
22223 | 3rd+ Episodes, 18 to 19 Therapy Visits | C2F2S3 | 1.7621
22231 | 3rd+ Episodes, 14 to 15 Therapy Visits | C2F3S1 | 1.4626
22232 | 3rd+ Episodes, 16 to 17 Therapy Visits | C2F3S2 | 1.6495
22233 | 3rd+ Episodes, 18 to 19 Therapy Visits | C2F3S3 | 1.8364
22311 | 3rd+ Episodes, 14 to 15 Therapy Visits | C3F1S1 | 1.5916
22312 | 3rd+ Episodes, 16 to 17 Therapy Visits | C3F1S2 | 1.7826
22313 | 3rd+ Episodes, 18 to 19 Therapy Visits | C3F1S3 | 1.9736
22321 | 3rd+ Episodes, 14 to 15 Therapy Visits | C3F2S1 | 1.6073
22322 | 3rd+ Episodes, 16 to 17 Therapy Visits | C3F2S2 | 1.7999
22323 | 3rd+ Episodes, 18 to 19 Therapy Visits | C3F2S3 | 1.9924
22331 | 3rd+ Episodes, 14 to 15 Therapy Visits | C3F3S1 | 1.6882
22332 | 3rd+ Episodes, 16 to 17 Therapy Visits | C3F3S2 | 1.8774
22333 | 3rd+ Episodes, 18 to 19 Therapy Visits | C3F3S3 | 2.0667
30111 | 3rd+ Episodes, 0 to 5 Therapy Visits | C1F1S1 | 0.4805
30112 | 3rd+ Episodes, 6 Therapy Visits | C1F1S2 | 0.6403
30113 | 3rd+ Episodes, 7 to 9 Therapy Visits | C1F1S3 | 0.8001
30114 | 3rd+ Episodes, 10 Therapy Visits | C1F1S4 | 0.9599
30115 | 3rd+ Episodes, 11 to 13 Therapy Visits | C1F1S5 | 1.1197
30121 | 3rd+ Episodes, 0 to 5 Therapy Visits | C1F2S1 | 0.5648
30122 | 3rd+ Episodes, 6 Therapy Visits | C1F2S2 | 0.7109
30123 | 3rd+ Episodes, 7 to 9 Therapy Visits | C1F2S3 | 0.8570
30124 | 3rd+ Episodes, 10 Therapy Visits | C1F2S4 | 1.0031
30125 | 3rd+ Episodes, 11 to 13 Therapy Visits | C1F2S5 | 1.1492
30131 | 3rd+ Episodes, 0 to 5 Therapy Visits | C1F3S1 | 0.6114
30132 | 3rd+ Episodes, 6 Therapy Visits | C1F3S2 | 0.7644
30133 | 3rd+ Episodes, 7 to 9 Therapy Visits | C1F3S3 | 0.9173
30134 | 3rd+ Episodes, 10 Therapy Visits | C1F3S4 | 1.0703
30135 | 3rd+ Episodes, 11 to 13 Therapy Visits | C1F3S5 | 1.2232
30211 | 3rd+ Episodes, 0 to 5 Therapy Visits | C2F1S1 | 0.4961
30212 | 3rd+ Episodes, 6 Therapy Visits | C2F1S2 | 0.6700
30213 | 3rd+ Episodes, 7 to 9 Therapy Visits | C2F1S3 | 0.8440
30214 | 3rd+ Episodes, 10 Therapy Visits | C2F1S4 | 1.0180
30215 | 3rd+ Episodes, 11 to 13 Therapy Visits | C2F1S5 | 1.1920
30221 | 3rd+ Episodes, 0 to 5 Therapy Visits | C2F2S1 | 0.5803
30222 | 3rd+ Episodes, 6 Therapy Visits | C2F2S2 | 0.7406
30223 | 3rd+ Episodes, 7 to 9 Therapy Visits | C2F2S3 | 0.9009
30224 | 3rd+ Episodes, 10 Therapy Visits | C2F2S4 | 1.0612
30225 | 3rd+ Episodes, 11 to 13 Therapy Visits | C2F2S5 | 1.2214
30231 | 3rd+ Episodes, 0 to 5 Therapy Visits | C2F3S1 | 0.6270
30232 | 3rd+ Episodes, 6 Therapy Visits | C2F3S2 | 0.7941
30233 | 3rd+ Episodes, 7 to 9 Therapy Visits | C2F3S3 | 0.9612
30234 | 3rd+ Episodes, 10 Therapy Visits | C2F3S4 | 1.1284
30235 | 3rd+ Episodes, 11 to 13 Therapy Visits | C2F3S5 | 1.2955
30311 | 3rd+ Episodes, 0 to 5 Therapy Visits | C3F1S1 | 0.6211
30312 | 3rd+ Episodes, 6 Therapy Visits | C3F1S2 | 0.8152
30313 | 3rd+ Episodes, 7 to 9 Therapy Visits | C3F1S3 | 1.0093
30314 | 3rd+ Episodes, 10 Therapy Visits | C3F1S4 | 1.2034
30315 | 3rd+ Episodes, 11 to 13 Therapy Visits | C3F1S5 | 1.3975
30321 | 3rd+ Episodes, 0 to 5 Therapy Visits | C3F2S1 | 0.7054
30322 | 3rd+ Episodes, 6 Therapy Visits | C3F2S2 | 0.8858
30323 | 3rd+ Episodes, 7 to 9 Therapy Visits | C3F2S3 | 1.0662
30324 | 3rd+ Episodes, 10 Therapy Visits | C3F2S4 | 1.2466
30325 | 3rd+ Episodes, 11 to 13 Therapy Visits | C3F2S5 | 1.4269
30331 | 3rd+ Episodes, 0 to 5 Therapy Visits | C3F3S1 | 0.7521
30332 | 3rd+ Episodes, 6 Therapy Visits | C3F3S2 | 0.9393
30333 | 3rd+ Episodes, 7 to 9 Therapy Visits | C3F3S3 | 1.1265
30334 | 3rd+ Episodes, 10 Therapy Visits | C3F3S4 | 1.3138
30335 | 3rd+ Episodes, 11 to 13 Therapy Visits | C3F3S5 | 1.5010
40111 | All Episodes, 20+ Therapy Visits | C1F1S1 | 1.8309
40121 | All Episodes, 20+ Therapy Visits | C1F2S1 | 1.8512
40131 | All Episodes, 20+ Therapy Visits | C1F3S1 | 1.9222
40211 | All Episodes, 20+ Therapy Visits | C2F1S1 | 1.9320
40221 | All Episodes, 20+ Therapy Visits | C2F2S1 | 1.9523
40231 | All Episodes, 20+ Therapy Visits | C2F3S1 | 2.0233
40311 | All Episodes, 20+ Therapy Visits | C3F1S1 | 2.1647
40321 | All Episodes, 20+ Therapy Visits | C3F2S1 | 2.1850
40331 | All Episodes, 20+ Therapy Visits | C3F3S1 | 2.2559

On page 39906, second column, line 31 the number “0.1” is corrected to read “1.8”.

Dated: July 29, 2015.
Madhura Valverde,
Executive Secretary to the Department, Department of Health and Human Services.

[FR Doc. 2015-19079 Filed 8-3-15; 8:45 am]

BILLING CODE 4120-01-P